DEPARTMENT OF HEALTH AND HUMAN SERVICES

Centers for Disease Control and Prevention

Disease, Disability, and Injury Prevention and Control Special Emphasis Panel: National Institute for Occupational Safety and Health (NIOSH) Support for Conferences and Scientific Meetings, Request for Applications PAR 06-014

In accordance with section 10(a)(2) of the Federal Advisory Committee Act (Pub. L. 92-463), the Centers for Disease Control and Prevention (CDC) announces the following meeting:

Name: Disease, Disability, and Injury Prevention and Control Special Emphasis Panel (SEP): NIOSH Support for Conferences and Scientific Meetings, Request for Applications PAR 06-014.

Time and Date: 1 p.m.-4 p.m., March 29, 2006 (Closed).

Place: Teleconference.

Status: The meeting will be closed to the public in accordance with provisions set forth in section 552b(c)(4) and (6), Title 5 U.S.C., and the Determination of the Director, Management Analysis and Services Office, CDC, pursuant to Public Law 92-463.

Matters to Be Discussed: The meeting will include the review, discussion, and evaluation of applications received in response to NIOSH Support for Conferences and Scientific Meetings, Request for Applications PAR 06-014.

For More Information Contact: George Bockosh, MS, Scientific Review Administrator, National Institute for Occupational Safety and Health, CDC, 626 Cochran Mill Road, MS PO-5, Pittsburgh, PA 15236, Telephone 412-386-6465. The Director, Management Analysis and Services Office, has been delegated the authority to sign Federal Register notices pertaining to announcements of meetings and other committee management activities, for both the CDC and the Agency for Toxic Substances and Disease Registry.

Dated: March 3, 2006.
Alvin Hall,
Director, Management Analysis and Services Office, Centers for Disease Control and Prevention.

[FR Doc. E6-3354 Filed 3-8-06; 8:45 am]

BILLING CODE 4163-18-P